DEPARTMENT OF TRANSPORTATION

Federal Aviation Administration

14 CFR Part 73

[Docket No. FAA-2012-0226; Airspace Docket No. 12-ASO-10]

RIN 2120-AA66

Amendment of Restricted Area R-2917, De Funiak Springs, FL

AGENCY: Federal Aviation Administration (FAA), DOT.

ACTION: Final rule.

SUMMARY: This action modifies restricted area R-2917 by reducing the lateral and vertical dimensions of the area. The U.S. Air Force has determined that a smaller restricted area is needed to ensure that aircraft carrying certain electro-explosive devices remain a safe distance from an FPS-85 radar site.

DATES: Effective date 0901 UTC, May 31, 2012.

FOR FURTHER INFORMATION CONTACT: Paul Gallant, Airspace, Regulations and ATC Procedures Group, AJV-11, Office of Airspace Services, Federal Aviation Administration, 800 Independence Avenue SW., Washington, DC 20591; telephone: (202) 267-8783.

SUPPLEMENTARY INFORMATION:

Background

On January 2, 1996, the FAA published a final rule in the Federal Register to expand the lateral and vertical dimensions of restricted area R-2917, De Funiak Springs, FL, which surrounds an FPS-85 radar system located at that site (61 FR 0004). The expanded restricted area consisted of a 2.5 nautical mile radius, from the surface up to, but not including, Flight Level (FL) 230. The purpose of R-2917 is to provide protected airspace around the radar site because the radio frequency (RF) energy emitted by the radar has the potential to activate electro-explosive devices (EED) carried on board certain aircraft. It should be noted that R-2917 is located within the confines of a much larger restricted area, R-2914A, which extends from the surface to unlimited altitude.

A recent revision to Air Force explosive safety standards guidance revised the formula for computing the hazards to EED from FPS-85 RF radiation. As a result, a smaller safe separation distance is required for aircraft carrying EED. This allows the size of R-2917 to be reduced to a one-nautical mile radius up to 5,000 feet MSL. The smaller restricted area R-2917 remains totally contained within existing restricted area R-2914A.

The Rule

This action amends Title 14 Code of Federal Regulations (14 CFR) part 73 to change the lateral and vertical dimensions of R-2917, De Funiak Springs, FL, from the current 2.5-nautical mile radius circle, extending from the surface to, but not including FL 230, to a one-nautical mile radius circle, extending from the surface to 5,000 feet MSL.

Because this amendment reduces the size of restricted airspace within the confines of a larger existing restricted area and does not increase the burden on the public, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311c., FAA Order 1050.1E, Environmental Impacts: Policies and Procedures. This action reduces the vertical and lateral dimensions of special use airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. § 73.29 is amended as follows:

* * * * *

1. R-2917 De Funiak Springs, FL [Amended]

By removing the current Boundaries and Designated altitudes and substituting the following: Boundaries. A circle with a 1-nautical mile radius centered at lat. 30°34′21″N., long. 86°12′53″W.

Designated altitudes. Surface to 5,000 feet MSL.

Issued in Washington, DC on April 12, 2012.
Ellen Crum,
Acting Manager, Airspace, Regulations and ATC Procedures Group.

[FR Doc. 2012-9186 Filed 4-16-12; 8:45 am]

BILLING CODE 4910-13-P